NUCLEAR REGULATORY COMMISSION

[NRC-2012-0002]

Sunshine Act Meeting

Agency Holding the Meetings: Nuclear Regulatory Commission.

DATES: Week of March 26, 2012.

Place: Commissioners' Conference Room, 11555 Rockville Pike, Rockville, Maryland.

Status: Public and Closed.

Additional Items To Be Considered

Week of March 26, 2012

Friday, March 30, 2012

1:25 p.m. Affirmation Session (Public Meeting) (Tentative)

a. Entergy Nuclear Generation Co. and Entergy Nuclear Operations, Inc. (Pilgrim Nuclear Power Station), Docket No. 50-293-LR (Tentative)

b. South Carolina Electric & Gas Co. and South Carolina Public Service Authority (Also Referred to as Santee Cooper) (Virgil C. Summer Nuclear Station, Units 2 and 3), Docket Nos. 52-027-COL & 52-028-COL; Mandatory Hearing Decision (Tentative)

This meeting will be webcast live at the Web address: www.nrc.gov.

* * * * *

*The schedule for Commission meetings is subject to change on short notice. To verify the status of meetings, call (recording)—(301) 415-1292. Contact person for more information: Rochelle Bavol, (301) 415-1651.

* * * * *

The NRC Commission Meeting Schedule can be found on the Internet at: www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: March 23, 2012.
Kenneth Hart,
Technical Coordinator, Office of the Secretary.

[FR Doc. 2012-7539 Filed 3-26-12; 11:15 am]

BILLING CODE 7590-01-P